DEPARTMENT OF THE INTERIOR

Fish and Wildlife Service

Final Comprehensive Conservation Plan for Long Lake National Wildlife Refuge Complex, Moffit, ND

AGENCY: Fish and Wildlife Service, Interior.

ACTION: Notice of availability.

SUMMARY: The U.S. Fish and Wildlife Service (Service) announces that a final Comprehensive Conservation Plan (CCP) for the Long Lake National Wildlife Refuge Complex (Complex) is available. This CCP, prepared pursuant to the National Wildlife Refuge System Improvement Act of 1997 and the National Environmental Policy Act of 1969, describes how the Service intends to manage the Complex, which includes Long Lake National Wildlife Refuge (NWR), Slade NWR, Florence Lake NWR, and Long Lake Wetland Management District (WMD), for the next 15 years.

ADDRESSES: A copy of the final CCP or Summary is available by writing to Bernardo Garza, Planning Team Leader, U.S. Fish and Wildlife Service, P.O. Box 25486, Denver Federal Center, Denver, Colorado 80225; or download from http://mountain-prairie.fws.gov/planning.

FOR FURTHER INFORMATION CONTACT: Bernardo Garza, (303) 236-4377, or John Esperance, (303) 236-4369.

SUPPLEMENTARY INFORMATION:

Background

The Complex is located within Burleigh, Emmons and Kidder Counties in south-central North Dakota. The final CCP for this Complex includes three NWRs and one WMD:

• Long Lake NWR (22,310 acres in size) was established on February 25, 1932, “as a refuge and breeding ground for migratory birds and wild animals”; and “for use as an inviolate sanctuary, or for any other management purpose, for migratory birds.” This refuge encompasses 15,000 acres of brackish to saline marsh and lake; 1,000 acres of other wetlands; and approximately 6,000 acres of tame and native grassland, woodland, and cropland. The refuge serves as an important staging area for migrating sandhill cranes, Canada geese and other waterfowl, shorebirds, and other migratory birds. Endangered whooping cranes often utilize refuge marshes during Spring and Fall migrations.

• Slade NWR (3,000 acres in size) was established on October 10, 1944, “for use as an inviolate sanctuary, or for any other management purpose, for migratory birds.”

• Florence Lake NWR was established on May 10, 1939, “as a refuge and breeding ground for migratory birds and other wildlife”; and “for use as an inviolate sanctuary, or for any other management purpose, for migratory birds.” The fee portion of this refuge consists of 1,468 acres.

• Long Lake WMD manages 1,036 perpetual wetland easements, 93 perpetual grassland easements, 16 Farmers Home Administration perpetual easements, 2,759 upland acres, one Garrison Diversion Unit mitigation tract managed as a Wildlife Development Area, and 78 Waterfowl Production Areas. The WMD was established with the purposes of assuring the long-term viability of the breeding waterfowl population and production through the acquisition and management of Waterfowl Production Areas, while considering the needs of other migratory birds, threatened and endangered species and other wildlife; “as Waterfowl Production Areas subject to all provisions of the Migratory Bird Conservation Act except the inviolate sanctuary provisions”; and “for any other management purposes, for migratory birds, and for conservation purposes.”

This final CCP identifies goals, objectives and strategies for the management of the Complex that emphasize restoration and maintenance of Long Lake and other native habitats in vigorous condition to promote biological diversity. The CCP places high importance on the control of invasive plant species with partners and integrated pest management. It seeks to provide habitats in order to contribute to conservation, enhancement and production of migratory bird species, while protecting federally listed species.

The availability of the draft CCP and Environmental Assessment (EA) for a 30-day public review and comment period was announced in the Federal Register on July 10, 2006 (71 FR 38892-38893). The draft CCP/EA evaluated four alternatives for managing the Complex for the next 15 years.

The preferred alternative will expand the scope and level of efforts of the current management of habitats by incorporating adaptive resource management. This alternative will seek to improve and develop public use facilities to maximize existing and potential wildlife-dependent priority public use opportunities when they are compatible with other management objectives. Under this alternative, the Complex will strive to develop partnerships; encourage research that provides the necessary knowledge and data to guide habitat management decisions and activities; and to protect and/or restore additional wildlife habitats.

This alternative was selected based on the EA, comments received, and because it best meets the purposes and goals of the Complex, as well as the goals of the National Wildlife Refuge System. The management direction of the Complex is expected to also benefit federally listed species, large ungulates, shore birds, migrating and nesting waterfowl, and neotropical migrants. It identifies increased environmental education and partnerships that are likely to result in improved wildlife-dependent recreational opportunities. Finally, the CCP places high importance on the protection of cultural and historical resources.

Dated: January 17, 2007.
James J. Slack,
Deputy Regional Director, Region 6, Denver, Colorado.

[FR Doc. E7-9493 Filed 5-16-07; 8:45 am]

BILLING CODE 4310-55-P